DEPARTMENT OF ENERGY

Federal Energy Regulatory Commission

[Docket No. EL17-85-000]

East Texas Electric Cooperative, Inc., Northeast Texas Electric Cooperative, Inc. v. Southwestern Electric Power Company; Notice of Complaint

Take notice that on August 31, 2017, pursuant to sections 206, 306 and 309 of the Federal Power Act, 16 U.S.C. 824(e), 825(e) and 825(h) and Rules 206 and 212 of the Federal Energy Regulatory Commission's (Commission) Rules of Practice and Procedure, 18 CFR 385.206 and 385.212 (2017), East Texas Electric Cooperative, Inc. and Northeast Texas Electric Cooperative, Inc. (Complainants) filed a formal complaint against Southwestern Electric Power Company (Respondent or SWEPCO) alleging that the 11.1 percent stated return on common equity included in the formula rates of SWEPCO used in two SWEPCO Power Supply Agreements with Complainants is unjust and unreasonable and should be reduced, all as more fully explained in the complaint.

The Complainants certifies that copies of the complaint were served in accordance with Rule 206(c).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE., Washington, DC 20426.

This filing is accessible on-line at http://www.ferc.gov, using the eLibrary link and is available for electronic review in the Commission's Public Reference Room in Washington, DC. There is an eSubscription link on the Web site that enables subscribers to receive email notification when a document is added to a subscribed docket(s). For assistance with any FERC Online service, please email FERCOnlineSupport@ferc.gov or call (866) 208-3676 (toll free). For TTY, call (202) 502-8659.

Comment Date: 5:00 p.m. Eastern Time on September 20, 2017.

Dated: September 1, 2017.
Nathaniel J. Davis, Sr.,
Deputy Secretary.

[FR Doc. 2017-19143 Filed 9-8-17; 8:45 am]

BILLING CODE 6717-01-P